FEDERAL COMMUNICATIONS COMMISSION

Notice of Public Information Collection(s) Approved by the Office of Management and Budget

March 28, 2008.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: For additional information contact Cathy Williams via the internet at PRA@fcc.gov or by phone on (202) 418-2918.

SUPPLEMENTARY INFORMATION: OMB Control Number: 3060-1115.

OMB Approval Date: March 27, 2008.

Expiration Date: September 30, 2008.

Title: DTV Consumer Education Initiative, Sections 15.124, 27.20, 54.418, 73.674 and 76.1630.

Form No.: FCC Form 388.

Estimated Annual Burden: 70,026 responses; 0.5 hours-85 hours per response; 156,069 hours total per year.

Obligation to Respond: Required to retain or obtain benefits; statutory authority for this collection of information is contained in sections 4(i), 303(r), 335, and 336, of the Communications Act of 1934, as amended, 47 U.S.C. 154(i), 303(r), 335, and 336.

Nature and Extent of Confidentiality: There is no need for confidentiality.

Needs and Uses: The Commission adopted on February 19, 2008, a Report and Order, In the Matter DTV Consumer Education Initiative, MB Docket 07-148, FCC 08-56. As the Nation transitions from analog broadcast television service to digital broadcast television service, the Commission has been committed to working with representatives from industry, public interest groups, and Congress to make the significant benefits of digital broadcasting available to the public. The digital transition will make valuable spectrum available for both public safety uses and expanded wireless competition and innovation. By compressing television broadcasting into a smaller amount of the available spectrum, the digital transition has allowed the Commission to make valuable 700 MHz spectrum available for sale and use by wireless companies and public safety organizations. The transition will also provide consumers with better quality television picture and sound, and make new services available through multicasting. These innovations, however, are dependent upon widespread consumer understanding of the benefits and mechanics of the transition. The Congressional decision to establish a hard deadline of February 17, 2009, for the end of full-power analog broadcasting has made consumer awareness even more critical.

In this Order, the Commission imposes the following information and disclosure requirements:

(a) Broadcaster Education and Reporting (47 CFR 73.674).

(i) On-air Education. Broadcasters must provide on-air DTV Transition consumer education information (e.g., via Public Service Announcements (PSAs) or information crawls) to their viewers. Broadcasters must comply with one of three alternative sets of rules as provided in the Report and Order.

(ii) DTV Consumer Education Quarterly Activity Report, FCC Form 388. Broadcasters must electronically file a report about its DTV Transition consumer education efforts to the Commission on a quarterly basis. Broadcasters must begin filing these quarterly reports no later than April 10, 2008. In addition, if the broadcaster has a public Web site, they must post these reports on that Web site.

(b) Multichannel Video Programming Distributor (MVPD) Customer Bill Notices (47 CFR 76.1630). MVPDs, which include, for example (and are not limited to), cable operators, direct broadcast satellite (DBS) carriers, open video system operators, and private cable operators, must provide monthly notices about the DTV transition in their customer billing statements.

(c) Consumer Electronics Manufacturer Notices (47 CFR 15.124). Parties that manufacture, import, or ship interstate television receivers and devices designed to work with television receivers must provide notice to consumers of the transition's impact on that equipment. This information must be included with all devices shipped, beginning on the effective date of these rules, until March 31, 2009.

(d) DTV.gov Partner Consumer Education Reporting. DTV.gov Transition Partners must report their consumer education efforts, as a condition of continuing Partner status. They must begin filing these quarterly reports no later than April 10, 2008.

(e) Eligible telecommunications carriers (ETCs) Federal Universal Service Low-Income Program Participant Notices (47 CFR 54.418). ETCs that receive federal universal service funds must provide monthly notice of the transition to their low income customers and potential customers. This information must be provided beginning on the effective date of these rules, until March 31, 2009.

(f) 700 MHz Auction Winner Consumer Education Reporting (47 CFR 27.20). Winners of the 700 MHz spectrum auction must report their consumer education efforts to the Commission on a quarterly basis. These parties must file the first by the tenth day of the first calendar quarter following the initial grant of the license authorization that the entity holds.

OMB Control Number: 3060-0214.

OMB Approval Date: March 27, 2008.

Expiration Date: September 30, 2008.

Title: Sections 73.3526 and 73.3527, Local Public Inspection Files; sections 76.1701 and 73.1943, Political Files.

Form No.: Not applicable.

Estimated Annual Burden: 52,285 responses; 2.5 hours-109 hours per response; 1,831,706 hours total per year.

Obligation to Respond: Required to retain or obtain benefits; statutory authority for this collection of information is contained in 154(i), 303, and 308 of the Communications Act of 1934.

Nature and Extent of Confidentiality: There is no need for confidentiality.

Needs and Uses: The Commission adopted on February 19, 2008, a Report and Order, In the Matter DTV Consumer Education Initiative, MB Docket 07-148, FCC 08-56. The Report and Order adds a new recordkeeping requirement for full-power commercial and noncommercial educational TV broadcast stations (both analog and digital) for the contents of their public inspection files. Specifically, the rule requires these stations to retain in their public inspection file a copy of their DTV Consumer Education Quarterly Activity Report, FCC Form 388, on a quarterly basis. The Report for each quarter is to be placed in the public inspection file by the tenth day of the succeeding calendar quarter. These Reports shall be retained in the public inspection file for one year. Broadcasters shall publicize in an appropriate manner the existence and location of these Reports.

Federal Communications Commission.
Marlene H. Dortch,
Secretary.

[FR Doc. E8-6940 Filed 4-2-08; 8:45 am]

BILLING CODE 6712-01-P